ENVIRONMENTAL PROTECTION AGENCY

40 CFR Part 180

[OPP-2002-0043; FRL-6835-2]

Pesticide Tolerance Nomenclature Changes; Technical Amendment

AGENCY: Environmental Protection Agency (EPA).

ACTION: Final rule; technical amendment.

SUMMARY: This document makes minor revisions to the terminology of certain commodity terms listed under 40 CFR part 180, subpart C. EPA is taking this action to establish a uniform listing of the commodity terms.

DATES: This document is effective June 19, 2002.

FOR FURTHER INFORMATION CONTACT: By mail: Hoyt L. Jamerson, Registration Division (7505C), Office of Pesticide Programs, Environmental Protection Agency, 1200 Pennsylvania Ave., NW., Washington, DC 20460; telephone number: (703) 308-9368; and e-mail address: jamerson.hoyt@epa.gov.

SUPPLEMENTARY INFORMATION:

I. General Information

A. Does this Action Apply to Me?

You may be affected by this action if you are an agricultural producer, food manufacturer, or pesticide manufacturer. Potentially affected categories and entities may include, but are not limited to:

Categories | NAICS codes | Examples of potentially affected entities
Industry | 111 | Crop production
| 112 | Animal production
| 311 | Food manufacturing
| 32532 | Pesticide manufacturing

This listing is not intended to be exhaustive, but rather provides a guide for readers regarding entities likely to be affected by this action. Other types of entities not listed in the table could also be affected. The North American Industrial Classification System (NAICS) codes have been provided to assist you and others in determining whether or not this action might apply to certain entities. If you have questions regarding the applicability of this action to a particular entity, consult the person listed under FOR FURTHER INFORMATION CONTACT.

B. How Can I Get Additional Information, Including Copies of this Document and Other Related Documents?

1. Electronically. You may obtain electronic copies of this document, and certain other related documents that might be available electronically, from the EPA Internet Home Page at http://www.epa.gov/. To access this document, on the Home Page select “Laws and Regulations,” “Regulations and Proposed Rules,” and then look up the entry for this document under the “Federal Register—Environmental Documents.” You can also go directly to the Federal Register listings at http://www.epa.gov/fedrgstr/. A frequently updated electronic version of 40 CFR part 180 is available at http://www.access.gpo.gov/nara/cfr/cfrhtml_180/Title_40/40cfr180_00.html, a beta site currently under development. To access an electronic copy of the commodity data base entitled Food and Feed Commodity Vocabulary go to: http://www.epa.gov/pesticides/foodfeed/.

2. In person. The Agency has established an official record for this action under docket control number OPP-2002-0043. The official record consists of the documents specifically referenced in this action, and other information related to this action, including any information claimed as Confidential Business Information (CBI). This official record includes the documents that are physically located in the docket, as well as the documents that are referenced in those documents. The public version of the official record does not include any information claimed as CBI. The public version of the official record, which includes printed, paper versions of any electronic comments submitted during an applicable comment period is available for inspection in the Public Information and Records Integrity Branch (PIRIB), Rm. 119, Crystal Mall #2, 1921 Jefferson Davis Hwy., Arlington, VA, from 8:30 a.m. to 4 p.m., Monday through Friday, excluding legal holidays. The PIRIB telephone number is (703) 305-5805.

II. Background

A. What Does this Technical Amendment Do?

EPA's Office of Pesticide Programs (OPP) has developed a commodity vocabulary data base entitled Food and Feed Commodity Vocabulary. The data base was developed to consolidate all the major OPP commodity vocabularies into one standardized vocabulary. As a result, all future pesticide tolerances issued under 40 CFR part 180 will use the “preferred commodity term” as listed in the aforementioned data base. This final rule is the first in a series of documents revising the terminology of commodity terms listed under 40 CFR part 180. This revision process will establish a uniform presentation of existing commodity terms under 40 CFR part 180. In this rule, EPA is making the following format changes to the terminology of commodity terms in 40 CFR part 180 to the extent the terminology is not already in this format:

1. The first letter of the commodity term is capitalized. All other letters, including the first letter of proper names, are changed to lower case.

2. Commodity terms are listed in the singular although there are the following exceptions: including the terms “leaves”, “roots”, “tops”, “greens”, “hulls”, “vines”, “fractions”, “shoots”, and “byproducts”.

3. Hyphens are removed from commodity terms. Example - “Cattle, meat by-products” is revised to read “Cattle, meat byproducts”.

4. Commodity terms are amended so that generic terms, such as “corn”, “pea”, “cattle”, precede modifying terms, such as “field”, “dry”, “summer”. Examples - “Corn, field”; “Pea, dry”; and “Squash, summer”, not “field corn”, “dry pea”, or “Summer squash”.

5. Abbreviated terms are replaced with the appropriate commodity terms. Examples - “Hog MBYP” is replaced with “hog, meat byproducts”. K+CWHR is replaced with “kernal plus cob with husks removed”.

6. Parenthesis are replaced with commas. Example - “Cattle meat byproducts (except kidney)” is replaced with “Cattle, meat byproducts, except kidney”.

7. Combined commodity entries are listed separately. Examples - “Goat, kidney and liver” is revised to read as follows: “Goat, kidney”, and “Goat, liver”.

“Fat of cattle, goat, horse and sheep” is revised to read as follows: “Cattle, fat”, “Goat, fat”, “Horse, fat;”, “Sheep, fat”

8. Crop group terms are revised to standardize with the “Food and Feed Vocabulary”. Examples:

i. “Stonefruit group” is revised to read “Fruit, stone, group”.

ii. “Cucurbit Vegetables Crop Group” is revised to read “Vegetable, cucurbit, group”.

iii. “Brassica (cole) leafy vegetables” is revised to read “Vegetable, brassica leafy, group”.

B. Why is this Technical Amendment Issued as a Final Rule?

Section 553 of the Administrative Procedure Act (APA), 5 U.S.C. 553(b)(B), provides that, when an agency for good cause finds that notice and public procedure are impracticable, unnecessary or contrary to the public interest, the agency may issue a rule without providing notice and an opportunity for public comment. EPA has determined that there is good cause for making today's technical amendment final without prior proposal and opportunity for comment, because today's action revises commodity terms listed under 40 CFR part 180, subpart C, in a manner that clearly will have no impact on the meaning of the tolerance regulations. For example, today's action revises commodity terms so that most are in singular (e.g., “peach”) instead of the plural (e.g., “peaches”). A complete description of the types of changes that are being made has been provided above. EPA has determined that there is no need to public comment on such ministerial changes and thus that there is good cause under 5 U.S.C. 553(b)(B) for dispensing with public comment. While EPA believes that it has correctly identified all instances where these above-listed revisions need to be made, the Agency would appreciate readers notifying EPA of discrepancies, omissions, or technical problems by submitting them to the address or e-mail under FOR FURTHER INFORMATION CONTACT. These will be corrected in a future rule.

III. Regulatory Assessment Requirements

This final rule implements technical amendments to the Code of Federal Regulations which have no substantive impact on the underlying regulations, and it does not otherwise impose or amend any requirements. As such, the Office of Management and Budget (OMB) has determined that a technical amendment is not a “significant regulatory action” subject to review by OMB under Executive Order 12866, entitled Regulatory Planning and Review (58 FR 51735, October 4, 1993). Because this rule has been exempted from review under Executive Order 12866 due to its lack of significance, this rule is not subject to Executive Order 13211, entitled Actions Concerning Regulations That Significantly Affect Energy Supply, Distribution, or Use (66 FR 28355, May 22, 2001). This final rule does not contain any information collections subject to OMB approval under the Paperwork Reduction Act (PRA), 44 U.S.C. 3501 et seq., or impose any enforceable duty or contain any unfunded mandate as described under Title II of the Unfunded Mandates Reform Act of 1995 (UMRA) (Public Law 104-4). Nor does it require any special considerations under Executive Order 12898, entitled Federal Actions to Address Environmental Justice in Minority Populations and Low-Income Populations (59 FR 7629, February 16, 1994); or OMB review or any Agency action under Executive Order 13045, entitled Protection of Children from Environmental Health Risks and Safety Risks (62 FR 19885, April 23, 1997). This action does not involve any technical standards that would require Agency consideration of voluntary consensus standards pursuant to section 12(d) of the National Technology Transfer and Advancement Act of 1995 (NTTAA), Public Law 104-113, section 12(d) (15 U.S.C. 272 note). Since the action does not require the issuance of a proposed rule, the requirements of the Regulatory Flexibility Act (RFA) (5 U.S.C. 601 et seq.) do not apply. In addition, the Agency has determined that this action will not have a substantial direct effect on States, on the relationship between the national government and the States, or on the distribution of power and responsibilities among the various levels of government, as specified in Executive Order 13132, entitled Federalism (64 FR 43255, August 10, 1999). Executive Order 13132 requires EPA to develop an accountable process to ensure “meaningful and timely input by State and local officials in the development of regulatory policies that have federalism implications.” “Policies that have federalism implications” is defined in the Executive Order to include regulations that have “substantial direct effects on the States, on the relationship between the national government and the States, or on the distribution of power and responsibilities among the various levels of government.” This action does not alter the relationships or distribution of power and responsibilities established by Congress in the preemption provisions of FFDCA section 408(n)(4). For these same reasons, the Agency has determined that this rule does not have any “tribal implications” as described in Executive Order 13175, entitled Consultation and Coordination with Indian Tribal Governments (65 FR 67249, November 6, 2000). Executive Order 13175, requires EPA to develop an accountable process to ensure “meaningful and timely input by tribal officials in the development of regulatory policies that have tribal implications.” “Policies that have tribal implications” is defined in the Executive Order to include regulations that have “substantial direct effects on one or more Indian tribes, on the relationship between the Federal government and the Indian tribes, or on the distribution of power and responsibilities between the Federal government and Indian tribes.” This rule will not have substantial direct effects on tribal governments, on the relationship between the Federal government and Indian tribes, or on the distribution of power and responsibilities between the Federal government and Indian tribes, as specified in Executive Order 13175. Thus, Executive Order 13175 does not apply to this rule.

IV. Submission to Congress and the Comptroller General

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of this final rule in the Federal Register. This final rule is not a “major rule” as defined by 5 U.S.C. 804(2).

List of Subjects in 40 CFR Part 180

Environmental protection, Administrative practice and procedure, Agricultural commodities, Pesticides and pests, Reporting and recordkeeping requirements.

Dated: June 11, 2002.
Marcia Mulkey,
Director, Office of Pesticide Programs.

Therefore, 40 CFR chapter I is amended as follows:

PART 180—[AMENDED]

1. The authority citation for part 180 continues to read as follows:

Authority: 21 U.S.C. 321(q), 346(a) and 374.

Subpart C—[Amended]

2. In the following table, change the term exactly as it appears in the “Existing Term” column to read like the term in the “New Term” column wherever it may appear in subpart C, and realphabetize the new term where appropriate:

Existing Term | New Term
Alfalfa (forage) | Alfalfa, forage
Alfalfa hay | Alfalfa, hay
Alfalfa (hay) | Alfalfa, hay
Almond hull | Almond, hulls
Almond hulls | Almond, hulls
Almonds hulls | Almond, hulls
Almonds | Almond
Apples | Apple
Apple pomace, wet | Apple, wet pomace
Apple, pomace, wet | Apple, wet pomace
Apple pomace (wet) | Apple, wet pomace
Apricots (dried) | Apricot, dried
Apricots | Apricot
Artichokes | Artichoke
Avocados | Avocado
Bamboo shoots | Bamboo, shoots
Banana (Pulp) | Banana, pulp
Barley (straw) | Barley, straw
Barley, pearled | Barley, pearled barley
Bananas | Banana
Beans | Bean
Beets | Beet
Blackberries | Blackberry
Blueberries | Blueberry
Boysenberries | Boysenberry
Brazil nut | Nut, brazil
Bulb vegetables | Vegetable, bulb, group
Butternuts | Butternut
(CA only) | , CA only
Canola meal | Canola, meal
Canola seed | Canola, seed
Cantaloupes | Cantaloupe
Cereal grains | Grain, cereal
Citrus citron | Citron, citrus
Citrus fruit | Fruit, citrus
Citrus molasses | Citrus, molasses
Citrus oil | Citrus, oil
Clover (forage) | Clover, forage
Clover hay | Clover, hay
Clover (hay) | Clover, hay
Clover, hay, for seed | Clover, hay, grown for seed
Cottonseed, hulls | Cotton, hulls
Cottonseed hulls | Cotton, hulls
Cottonseed soapstock | Cotton, seed, soapstock
Cottonseed meal | Cotton, meal
Cottonseed, meal | Cotton, meal
Cottonseed meals | Cotton, meal
Cottonseed, meals | Cotton, meal
Cottonseed, refined oil | Cotton, refined oil
Cranberries | Cranberry
Cucumbers | Cucumber
Currants | Currant
Dewberries | Dewberry
Eggs | Egg
Eggplants | Eggplant
(exc. kidney and liver) | , except kidney and liver
(exc. kidney, liver) | , except kidney and liver
(exc. kidney) | , except kidney
(exc kidney, liver) | , except kidney and liver
(except kidney, liver) | , except kidney and liver
(except kidney and liver) | , except kidney and liver
except kidney and liver | , except kidney and liver
; except kidney and liver | , except kidney and liver
(except kidney) | , except kidney
except kidney | , except kidney
(except liver) | , except liver
except liver | , except liver
(exc. liver) | , except liver
(except liver and kidney) | , except kidney and liver
Field corn, forage | Corn, field, forage
Field corn, grain | Corn, field, grain
Field corn, stover | Corn, field, stover
Field, corn, forage | Corn, field, forage
Field, corn, grain | Corn, field, grain
Forage grasses | Grass, forage
Forage legumes | Legume, forage
Fruiting vegetables | Vegetable, fruiting
Flax straw | Flax, straw
(fresh) | , fresh
(fresh prune) | , prune, fresh
(fresh, prunes) | prune, fresh
Fruits | Fruit
Goats | Goat
Grapes | Grape
Grasses | Grass
Grain crop | Grain, crop
Grain crops | Grain, crop
Grain, crops | Grain, crop
Gooseberries | Gooseberry
Grape juice | Grape, juice
Grape, raisins | Grape, raisin
Grapefruits | Grapefruit
Guavas | Guava
Hickory nuts | Nut, hickory
Honeydew melons | Melon, honeydew
Honeydews | Melon, honeydew
Hop cones, dried | Hop, dried cone
Hogs | Hog
Hops | Hop
Hop, dried | Hop, dried cones
Horses | Horse
(hulls) | , hulls
Lemons | Lemon
Leeks | Leek
Legumes, forage | Legume, forage
Limes | Lime
Loganberries | Loganberry
Mangoes | Mango
Melons | Melon
meat by product | meat byproducts
meat byproduct | meat byproducts
meat by-products | meat byproducts
(mbyp) | , meat byproducts
mbyp | meat byproducts
Mbyp | meat byproducts
Mushrooms | Mushroom
Nectarines | Nectarine
Nuts | Nut
Olives | Olive
Onions (dry bulb) | Onion, dry bulb
Onion, dry | Onion, dry bulb
Onions, bulb | Onion, dry bulb
Onions, green | Onion, green
Onions | Onion
Peaches | Peach
Pears | Pear
Peas | Pea
Peppers (bell) | Pepper, bell
Peppers, non-bell | Pepper, nonbell
Peppers | Pepper
Peppermint tops | Peppermint, tops
Persimmons | Persimmon
Pimentos | Pimento
Pineapple fodder | Pineapple, fodder
Pineapple forage | Pineapple, forage
Pistachios | Pistachio
Pomegranates | Pomegranate
(POST-H) | , postharvest
(post-h) | , postharvest
Potato chips | Potato, chips
Potatoes | Potato
Pumpkins | Pumpkin
Raspberries | Raspberry
(seed) | , seed
(seed treatment) | , seed treatment
Strawberries | Strawberry
Rice bran | Rice, bran
Rice grain | Rice, grain
Rice hulls | Rice, hulls
Rice polishings | Rice, polished rice
Rice straw | Rice, straw
Sainfoin hay | Sanfoin, hay
Salsify tops | Salsify, tops
Spearmint tops | Spearmint, tops
Summer squash | Squash, summer
Tangerines | Tangerine
Tomatoes | Tomato
Walnuts | Walnut
Watermelons | Watermelon
Youngberries | Youngberry

3. In the following table change the term exactly as it appears in the “Existing Term” column to read like the term in the “New Term” column wherever it appears in subpart C, and realphabetize the new term where appropriate:

Existing Term | New Term
Alfalfa, hay, for seed | Alfalfa, hay, grown for seed
Animal feed, nongrass group (except alfalfa) | Animal feed, nongrass, group, except alfalfa
Bean (succulent form) | Bean, succulent
Bean, snap (succulent form) | Bean, snap, succulent
Brassica (cole) leafy vegetables | Vegetable, brassica, leafy, group
Brassica (cole) leafy vegetables group | Vegetable, brassica, leafy, group
Brassica, head and stem, subgroup, excluding cabbage | Brassica, head and stem, subgroup, except cabbage
Brassica, head and stem subgroup (5-A) | Brassica, head and stem, subgroup
Brassica, head and stem, crop subgroup 5-A | Brassica, head and stem, subgroup
Brassica, head and stem subgroup | Brassica, head and stem, subgroup
Brassica, head and stem | Brassica, head and stem, subgroup
Cereal Grains (excluding sweet corn), Bran | Grain, cereal, bran, except sweet corn
Cereal Grains (excluding sweet corn), Forage | Grain, cereal, forage, except sweet corn
Cereal Grains (excluding sweet corn), Grain | Grain, cereal, grain, except sweet corn
Cereal Grains (excluding sweet corn), Hay | Grain, cereal, hay, except sweet corn
Cereal Grains (excluding sweet corn), Hulls | Grain, cereal, hulls, except sweet corn
Cereal Grains (excluding sweet corn), Stover | Grain, cereal, stover, except sweet corn
Cucurbit vegetable group | Vegetable, cucurbit, group
Cucurbit Vegetables Crop Group | Vegetable, cucurbit, group
Cucurbit vegetables group | Vegetable, cucurbit, group
Cucurbits vegetable group | Vegetable, cucurbit, group
Cucurbit vegetables | Vegetable, cucurbit, group
Cucurbits vegetables | Vegetable, cucurbit, group
Citrus pulp, dehydrated | Citrus, dried pulp
(K=CWHR) | , kernel plus cob with husks removed
(K=kwhr) | , kernel plus cob with husks removed
(K+CWHR) | , kernel plus cob with husks removed
(K + CWHR) | , kernel plus cob with husks removed
, K + CWHR | , kernel plus cob with husks removed
(kernel plus cob with husks removed) | , kernel plus cob with husks removed
Oregano, Mexican, leaves | Oregano, mexican, leaves
Pepper, (non-bell¹) | Pepper, nonbell¹
Potato waste from processing | Potato, processed potato waste
Root and tuber vegetables | Vegetable, root and tuber, group
Root and tuber vegetables group | Vegetable, root and tuber, group
Stone fruit crop group | Fruit, stone, group
Stone fruit | Fruit, stone
Stone fruits (Crop Group 12) | Fruit, stone, group
Stone fruits group | Fruit, stone, group
Stonefruit group | Fruit, stone, group
Stone Fruits | Fruit, stone
Stone fruit crop group (except plums and prunes) | Fruit, stone, group, except plum and fresh prune plum
Stone fruit, except plum, prune, fresh | Fruit, stone, except fresh prune plum

4. In § 180.183, paragraph (a)(2)(ii) is revised to read as follows:

§ 180.183 O,O-Diethyl S-[2-(eth­yl­thio)eth­yl] phos­phor­o­dith­i­oate; tolerances for residues.

(a) * * *

(2) * * *

(ii) 5 parts per million in pineapple, bran when present therein as a result of the application of the insecticide in the production of pineapple.

* * * * *

5. Section 180.236 is amended by deleting from the table the entries for “Cattle, goats, hogs, horses and sheep, kidney and liver” and by alphabetically inserting the following entries:

§ 180.236 Triphenyltin hydroxide; tolerances for residues.

* * * * *

Commodity | Parts per million
Cattle, kidney | 0.05
Cattle, liver | 0.05
Goat, kidney | 0.05
Goat, liver | 0.05
Hog, kidney | 0.05
Hog, liver | 0.05
Horse, kidney | 0.05
Horse, liver | 0.05
* * * * *
Sheep, kidney | 0.05
Sheep, liver' | 0.05
* * * * *

§ § 180.110, 180.163, and 180.379 [Amended]

6. Sections 180.110(a), 180.163(a), and 180.379(a)(1) are amended by changing the term “Winter squash” to read “Squash, winter” and realphabetizing the new term and entry where appropriate.

7. In § 180.303, the table to pararaph (a)(1) is amended by changing the term “Winter Squash” to read “Squash, winter” by realphabetizing the new term, and by revising paragraph (a)(2) to read as follows:

§ 180.303 Oxamyl; tolerances for residues.

(a) * * *

(2) A tolerance of 6 parts per million is established for residues of the insecticide oxamyl (methyl N,N-dimethyl-N-[(methylcarbamoyl)oxy]-1-thiooxamimidate) in pineapple, bran as a result of application of the insecticide to growing pineapple.

* * * * *

§ 180.414 [Amended]

8. The table § 180.414(a)(1) are amended by changing and term “Lima beans” to read “Bean, lima” and by realphabetizing the new term and entry where appropriate.

9. In § 180.409(a)(1) amend the table by removing the entries “Cattle, kidney and liver”; “Goats, kidney and liver”; “Hogs, kidney and liver”; “Horses, kidney and liver”; and “Sheep, kidney and liver” and by adding alphabetically the following entries to the table:

§ 180.409 Pirimiphos-methyl; tolerances for residues.

(a) * * *

(1) * * *

Commodity | Parts per million
* * * * *
Cattle, kidney | 2.0
Cattle, liver | 2.0
* * * * *
Goat, kidney | 2.0
Goat, liver | 2.0
* * * * *
Hog, kidney | 2.0
Hog, liver | 2.0
* * * * *
Horse, kidney | 2.0
Horse, liver | 2.0
* * * * *
Sheep, kidney | 2.0
Sheep, liver' | 2.0
* * * * *

10. The table to § 180.410(a) is amended by removing the entry for “Apple pomace (wet and dry)” and by adding alphabetically entries for “Apple, dry pomace” and “Apple, wet pomace” as follows:

§ 180.410 Triademifon; tolerances for residues.

(a) * * *

Commodity | Parts per million
* * * * *
Apple, dry pomace | 4.0
Apple, wet pomace | 4.0
* * * * *

* * * * *

11. The table to § 180.412(a) is amended by removing the entry for “Apple pomace, wet and dry” and by adding alphabetically entries for “Apple, dry pomace” and “Apple, wet pomace” to read as follows:

§ 180.412 Sethoxydim; tolerances for residues.

(a)* * *

Commodity | Parts per million | Expiration/Revocation Date
* * * * *
Apple, dry pomace | 0.8 | None
Apple, wet pomace | 0.8 | None
* * * * *

* * * * *

12. In § 180.421 the table to paragraph (a)(1) is amended by removing the entry for “Apple pomace (wet and dry)” and by adding alphabetically entries for “Apple, dry pomace” and “Apple, wet pomace” to read as follows:

§ 180.421 Fenarimol; tolerances for residues.

(a) * * *

(1) * * *

Commodity | Parts per million
* * * * *
Apple, dry pomace | 2.0
Apple, wet pomace | 2.0
* * * * *

* * * * *

13. In § 180.423 amend the table by removing the entries “Cattle, kidney and liver”; “Goat, kidney and liver”; “Hog, kidney and liver”; “Horse, kidney and liver”; and “Sheep, kidney and liver” and by adding alphabetically new entries as follows:

§ 180.423 Fenridazon; potassium salt; tolerances for residues.

* * * * *

Commodity | Parts per million
* * * * *
Cattle, kidney | 1.0
Cattle, liver | 1.0
* * * * *
Goat, kidney | 1.0
Goat, liver | 1.0
* * * * *
Hog, kidney | 1.0
Hog, liver | 1.0
* * * * *
Horse, kidney | 1.0
Horse, liver | 1.0
* * * * *
Sheep, kidney | 1.0
Sheep, liver' | 1.0
* * * * *

14. Section 180.443(a) is amended by removing from the table the entry for “Apple pomace (wet and dry)”, by adding alphabetically an entry for “Apple, dry pomace” and by revising the entry for “Apple, wet pomace” to read as follows:

§ 180.443 Myclobutanil; tolerances for residues.

(a) * * *

Commodity | Parts per million
* * * * *
Apple, dry pomace | 5.0
Apple, wet pomace | 5.0
* * * * *

* * * * *

15. Section 180.564 is amended by removing from the table in paragraph (a) the entries for “Cattle, goat, horse, sheep and hog fat”; “Cattle, goat, horse, sheep and hog meat”; and “Cattle, goat, horse, sheep and hog meat byproducts”; and by adding the following entries alphabetically to the table:

§ 180.564 Indoxacarb; tolerances for residues.

(a) * * *

Commodity | Parts per million
* * * * *
Cattle, fat | 0.75
Cattle, meat | 0.03
Cattle, meat byproducts | 0.02
* * * * *
Goat, fat | 0.75
Goat, meat | 0.03
Goat, meat byproducts | 0.02
Hog, fat | 0.75
Hog, meat | 0.03
Hog, meat byproducts | 0.02
Horse, fat | 0.75
Horse, meat | 0.03
Horse, meat byproducts | 0.02
* * * * *
Sheep, fat | 0.75
Sheep, meat | 0.03
Sheep, meat byproducts | 0.02
* * * * *

§ § 180.455,180.518 and 180.566 [Amended]

16. Sections 180.455, and 180.518(e) are amended by changing the term for “Wine grapes” in the table to both sections to read “Grape, wine” and in the table to § 180.566(a) is amended by changing the term “Wine grapes¹” to read “Grape, wine¹”, and by realphabetizing the new term.

[FR Doc. 02-15332 Filed 6-18-02; 8:45 am]

BILLING CODE 6560-50-S